DEPARTMENT OF LABOR

Employment and Training Administration

[TA-W-70,856]

Isco Tubulars, Inc., Camanche, IA; Amended Certification Regarding Eligibility To Apply for Worker Adjustment Assistance

In accordance with Section 223 of the Trade Act of 1974, as amended (“Act”), 19 U.S.C. 2273, the Department of Labor issued a Certification of Eligibility to Apply for Worker Adjustment Assistance on December 23, 2009, applicable to workers of IPSCO Tubulars, Inc., Camanche, Iowa (subject firm). The Department's notice was published in the Federal Register on February 16, 2010 (74 FR 7034). Workers are engaged in employment related to the production of steel pipe and tubular products.

On our own motion, the Department reviewed the certification applicable to the workers of the subject firm.

The Department's review shows that the subject firm was publicly identified by name by the International Trade Commission in an investigation resulting in a category of determination that is listed in Section 222(f) of the Act, 19 U.S.C. 2272(f). That determination was published in the Federal Register on July 21, 2008 and is within one year of the date of the TAA petition. Therefore, the Department is amending the impact date to read July 21, 2007 and the expiration date to read July 21, 2009.

The amended notice applicable to TA-W-70,856 is hereby issued as follows:

All workers of IPSCO Tubulars, Inc., Camanche, Iowa, who became totally or partially separated from employment on or after July 21, 2007, through July 21, 2009, are eligible to apply for adjustment assistance under Chapter 2 of Title II of the Trade Act of 1974, as amended.

Signed in Washington, DC, this 30th day of August, 2010.
Del Min Amy Chen,
Certifying Officer, Office of Trade Adjustment Assistance.

[FR Doc. 2010-22717 Filed 9-10-10; 8:45 am]

BILLING CODE 4510-FN-P